DEPARTMENT OF TRANSPORTATION

Federal Highway Administration

Federal Transit Administration

Environmental Impact Statement; Portland, OR and Vancouver/Clark County, WA

AGENCY: Federal Highway Administration (FHWA), Department of Transportation (DOT) and Federal Transit Administration (FTA), Department of Transportation (DOT).

ACTION: Notice of Intent to prepare an environmental impact statement.

SUMMARY: The Federal Highway Administration and Federal Transit Administration are issuing this notice to advise the public that an Environmental Impact Statement (EIS) will be prepared for proposed highway and transit improvements in the Interstate 5 Columbia River Crossing (CRC) corridor between the Portland, Oregon and Vancouver/Clark County, Washington area.

FOR FURTHER INFORMATION CONTACT: Steve Saxton, Area Engineer, Federal Highway Administration, Washington Division at 360-753-9411, Jeff Graham, Operations Engineer, Federal Highway Administration, Oregon Division at 503-587-4727 and from Linda Gehrke, Deputy Regional Administrator, Federal Transit Administration, at 206-220-4463.

Public information contact: Amy Echols, CRC Communications Manager, Washington State Department of Transportation (WSDOT) at 360-737-2726 or echolsa@columbiarivercrossing.org.

Agency Coordination contact: Heather Gundersen, CRC Environmental Manager, Oregon Department of Transportation (ODOT), at 360-737-2726 or gundersenh@columbiarivercrossing.org.

Additional information on the Columbia River Crossing Project can also be found on the project Web site at http://www..columbiarivercrossing.org.

SUPPLEMENTARY INFORMATION:

Proposed Action Background

The FHWA and FTA, as Federal co-lead agencies, the Washington State Department of Transportation (WSDOT), Oregon Department of Transportation (ODOT), Southwest Washington Regional Transportation Council (RTC), Metropolitan Service District (Metro), Clark County Public Transportation Benefit Area Authority (C-TRAN), and Tri-County Metropolitan Transportation District of Oregon (TriMet), will prepare an environmental impact statement (EIS) on proposed highway and transit improvements in the I-5 Columbia River Crossing corridor between the Portland, Oregon and Vancouver/Clark County, Washington area. The Columbia River Crossing study area generally encompasses the I-5 corridor from the I-5/I-405 interchange in Portland, Oregon in the south to the I-5/I-205 merge in Clark County, Washington in the north.

The existing I-5 crossing of the Columbia River is two side-by-side bridges, built in 1917 and 1958. In 1982 another river crossing—the Interstate 205 Glenn Jackson Bridge—opened approximately six miles to the east. Together, the two crossings connect the greater Portland-Vancouver region, carrying over 260,000 trips across the Columbia River daily. Growth in the region's population and border-to-border commerce is straining the capacity of the two crossings. This has resulted in trip diversion, unmet travel demand and hours of daily congestion that stalls commuters and delay freight, adversely affecting interstate traffic and commerce.

In 1998, the Washington State Department of Transportation (WSDOT) and Oregon Department of Transportation (ODOT) formed a bi-state partnership to study transportation and potential solutions in the I-5 Columbia River Crossing corridor. ODOT and WSDOT engaged local jurisdictions and agencies, businesses, neighborhoods, and interest groups in Washington and Oregon to plan and implement improvements along the I-5 corridor between the Portland metropolitan area and Vancouver in southern Clark County, Washington. Two studies resulted from this initial work: the Portland/Vancouver I-5 Trade Corridor Freight Feasibility and Needs Assessment Study Final Report, completed in 2000, and the Portland/Vancouver I-5 Transportation and Trade Partnership Final Strategic Plan, completed in 2002. This bi-state work included a variety of recommendations for corridor-wide improvements, traffic management and improvements in the I-5 Bridge Influence Area (BIA)—an approximately 5-mile section of the I-5 corridor extending from the SR 500 interchange north of the river to Columbia Boulevard south of the river.

Other significant transportation studies in the corridor include the South/North Major Investment Study (MIS) Final Report (1995) and the South/North Corridor Project Draft EIS (1998). These studies investigated a variety of high capacity transit corridors and modes between the Portland, Oregon area and Vancouver/Clark County, Washington.

Building on the previous studies, the I-5 Transportation and Trade Partnership Strategic Plan (2002), called for adding capacity over the Columbia River with a replacement bridge or by supplementing existing I-5 bridges to ease impacts of bottlenecks on local travel and interstate commerce. Another recommendation called for considering high-capacity transit improvements in the area of the I-5 Interstate Bridge over the Columbia River. The studies also stressed looking at a range of financing options, increasing general purpose lane capacity to three lanes where there are currently two at Delta Park and ensuring that low-income and minority populations within the corridor are involved in planning. ODOT is undertaking an Environmental Assessment at Delta Park. The Columbia River Crossing Project will study thse recommendations as well as others associated with the Bridge Influence Area.

Alternatives

A reasonable range of alternatives, including those identified in the Portland/Vancouver I-5 Transportation and Trade Partnership Final Strategic Plan and the South/North Corridor Project Draft EIS, will be considered. The EIS will include a range of highway and transit build alternatives, as well as a No-Build Alternative.

Probable Effects

FHWA, FTA, WSDOT, ODOT, RTC, Metro, C-TRAN, and TriMet will evaluate significant transportation, environmental, social, and economic impacts of the alternatives. Potential areas of impact include: support of state, regional, and local land use and transportation plans and policies, neighborhoods, land use and economics, cultural resources, environmental justice, and natural resources. All impacts will be evaluated for both the construction period and the long-term period of operation. Measures to avoid, minimize and mitigate any significant impacts will be developed.

Scoping Process

Agency Coordination: The project sponsors are working with the local, state and federal resource agencies to implement regular opportunities for coordination during the National Environmental Policy Act (NEPA) process. This process will comply with SAFETEA-LU Section 6002.

Tribal Coordination: The formal Tribal government consultation will occur through government-to-government collaboration.

Public Meetings: Three public information meetings will be held in October 2005, including:

• Saturday, October 22, 2005, 11 a.m.-2 p.m., at the Jantzen Beach Super Center (central mall area), 1405 Jantzen Beach Center, Portland, Oregon;

• Tuesday, October 25, 2005, 4 p.m.-8 p.m., at Clark College, Gaiser Hall, 1800 E. McLoughlin Blvd., Vancover, Washington 98663; and

• Thursday, October 27, 2005, 4 p.m.-8 p.m., at OAME (Oregon Association of Minority Enterpreneurs) Main Conference Room, 4134 N. Vancouver St. (at N. Skidmore St.), Portland, OR 97211.

All public information meeting locations are accessible to persons with disabilities. Any individual who requires special assistance, such as a sign language interpreter, should contact Amy Echols, CRC Communications Manager at 360-737-2726 or echolsa@columbiarivercrossing.org at least 48-hours in advance of the meeting in order for WSDOT or ODOT to make necessary arrangement.

To ensure that the full range of issues related to this proposed action are addressed and all significant issues identified, comments and suggestions are invited from interested parties. Comments or questions concerning this proposal will be accepted at the public meetings or can be sent to the Columbia River Crossing project office at 700 Washington Street, Suite 222, Vancouver, WA 98660 or to Heather Gundersen at gundersenh@columbiarivercrossing.org

(Catalog of Federal Domestic Assistance Program Number 20.205, Highway Planning and Construction. The regulations implementing Executive Order 12372 regarding intergovernmental consultation on Federal programs and activities apply to this program.)

Issued on: September 20, 2005.
Steve Saxton,
Area Engineer, Washington Division, Federal Highway Administration.
Linda M. Gehre,
Acting Regional Administrator, Region 10, Federal Transit Administration.

[FR Doc. 05-19230 Filed 9-26-05; 8:45 am]

BILLING CODE 4910-22-M